DEPARTMENT OF DEFENSE

Office of the Secretary

Reserve Forces Policy Board (RFPB); Notice of Advisory Committee Meeting

AGENCY: Department of Defense; Office of the Secretary of Defense Reserve Forces Policy Board.

ACTION: Notice of Advisory Committee Meeting.

SUMMARY: Pursuant to the Federal Advisory Committee Act of 1972 (5 U.S.C., Appendix, as amended), the Sunshine in the Government Act of 1976 (5 U.S.C. 552b, as amended), and 41 CFR 102-3.150, the Department of Defense announces the following Federal advisory committee meeting of the Reserve Forces Policy Board (RFPB).

DATES: Thursday, October 13, 2011, from 7:30 a.m. to 4:30 p.m.

ADDRESSES: Meeting address is Pentagon, Conference Room 3E863, Arlington, VA. Mailing address is Reserve Forces Policy Board, 7300 Defense Pentagon, Washington, DC 20301-7300.

FOR FURTHER INFORMATION CONTACT: Lt. Col. Kenneth Olivo, Designated Federal Officer, (703) 697-4486 (Voice), (703) 693-5371 (Facsimile), RFPB@osd.mil. Mailing address is Reserve Forces Policy Board, 7300 Defense Pentagon, Washington, DC 20301-7300. Web site: http://ra.defense.gov/rfpb/.

SUPPLEMENTARY INFORMATION: Purpose of the Meeting: To conduct administration and orientation of the new members of the RFPB.

Agenda: Administrative meeting will be conducted on October 13, 2011.

Meeting Accessibility: Pursuant to 5 U.S.C. 552b, as amended, and 41 CFR 102-3.140 through 102-3.165, this administrative meeting is not open to the public.

Written Statements: Pursuant to 41 CFR 102-3.105(j) and 102-3.140, the public or interested organizations may submit written statements to the membership of the Reserve Forces Policy Board at any time or in response to the stated agenda of a planned meeting. Written statements should be submitted to the Reserve Forces Policy Board's Designated Federal Officer. The Designated Federal Officer's contact information can be obtained from the GSA's FACA Database— https://www.fido.gov/facadatabase/public.asp.

Written statements that do not pertain to a scheduled meeting of the Reserve Forces Policy Board may be submitted at any time. However, if individual comments pertain to a specific topic being discussed at a planned meeting then these statements must be submitted no later than five business days prior to the meeting in question. The Designated Federal Officer will review all submitted written statements and provide copies to all the committee members.

Dated: September 8, 2011.
Aaron Siegel,
Alternate OSD Federal Register Liaison Officer, Department of Defense.

[FR Doc. 2011-23309 Filed 9-12-11; 8:45 am]

BILLING CODE 5001-06-P